DEPARTMENT OF THE INTERIOR

Minerals Management Service

[Docket No. MMS-2009-OMM-0012]

MMS Information Collection Activity: 1010-0176, Renewable Energy and Alternate Uses of Existing Facilities on the Outer Continental Shelf, Extension of a Collection; Submitted for Office of Management and Budget (OMB) Review; Comment Request

AGENCY: Minerals Management Service (MMS), Interior.

ACTION: Notice of a revision of an information collection (1010-0176).

SUMMARY: To comply with the Paperwork Reduction Act of 1995 (PRA), we are notifying the public that we have submitted to OMB an information collection request (ICR) to renew approval of the paperwork requirements in the regulations under 30 CFR 285, “Renewable Energy and Alternate Uses of Existing Facilities on the Outer Continental Shelf,” and related forms. This notice also provides the public a second opportunity to comment on the paperwork burden of these regulatory requirements.

DATES: Submit written comments by February 11, 2010.

ADDRESSES: Submit comments by either fax (202) 395-5806 or e-mail (OIRA_DOCKET@omb.eop.gov) directly to the Office of Information and Regulatory Affairs, OMB, Attention: Desk Officer for the Department of the Interior (1010-0176). Please also submit a copy of your comments to MMS by any of the means below.

• Electronically: Go to http://www.regulations.gov. In the entry titled “Enter Keyword or ID,” enter docket ID MMS-2009-OMM-0012, then click search. Under the tab “View by Relevance” you can submit public comments and view supporting and related materials available for this collection of information. The MMS will post all comments.

• Mail or hand-carry comments to the Department of the Interior; Minerals Management Service; Attention: Cheryl Blundon; 381 Elden Street, MS-4024; Herndon, Virginia 20170-4817. Please reference Information Collection 1010-0176 in your subject line and include your name and return address.

FOR FURTHER INFORMATION CONTACT: Cheryl Blundon, Regulations and Standards Branch, (703) 787-1607. You may also contact Cheryl Blundon to obtain a copy, at no cost, of the regulations and forms that require the subject collection of information.

SUPPLEMENTARY INFORMATION:

Title: 30 CFR 285, Renewable Energy and Alternate Uses of Existing Facilities on the Outer Continental Shelf.

Forms: MMS-0002, MMS-0003, MMS-0004, MMS-0005, and MMS-0006.

OMB Control Number: 1010-0176.

Abstract: The Outer Continental Shelf (OCS) Lands Act, as amended (43 U.S.C. 1331 et seq. and 43 U.S.C. 1801 et seq.), authorizes the Secretary of the Interior to issue leases, easements, or rights-of-way on the OCS for activities that produce or support production, transportation, or transmission of energy from sources other than oil and gas (renewable energy). Specifically, subsection 8(p) of the OCS Lands Act, as amended by section 388 of the Energy Policy Act of 2005 (Pub. L. 109-58), directs the Secretary of the Interior to issue any necessary regulations to carry out the OCS renewable energy program. The Secretary delegated the authority to issue such regulations and implement an OCS renewable energy program to the Minerals Management Service (MMS). The MMS has issued regulations for OCS renewable energy activities at 30 CFR part 285.

Subsequent to the approval of the information collection requirements in the final 30 CFR part 285 regulations, MMS developed five new forms that respondents must use to submit certain information collection requirements in Subpart D, Lease and Grant Administration, and Subpart E, Payments and Financial Assurance Requirements. These forms entail no additional burden as they only clarify and facilitate the submission of the currently approved information collection requirements to which the forms pertain. This resubmitted ICR is revised to: Correct citation numbering, fine tune words to better match requirements in the final rule, and reflect the inclusion of the new Forms MMS-0002, MMS-0003, MMS-0004, MMS-0005, and MMS-0006. No burden hours have been changed from the OMB currently approved collection.

Regulations implementing these responsibilities are under 30 CFR part 285. Responses are mandatory or required to obtain or retain a benefit. No questions of a sensitive nature are asked. The MMS protects information considered proprietary according to the Freedom of Information Act (5 U.S.C. 552) and its implementing regulations (43 CFR part 2), and under regulations at 30 CFR 285.113, addressing disclosure of data and information to be made available to the public and others.

Respondents will operate commercial and noncommercial technology projects that include installation, construction, operation and maintenance, and decommissioning of offshore facilities, as well as possible onshore support facilities. The MMS must ensure that these activities and operations on the OCS are carried out in a safe and pollution-free manner, do not interfere with the rights of other users on the OCS, and balance the protection and development of OCS resources. To do this, MMS needs information concerning the proposed activities, facilities, safety equipment, inspections and tests, and natural and manmade hazards near the site, as well as assurance of fiscal responsibility. Specifically, MMS will use the information collected under part 285 to:

• Determine if applicants and assignees are qualified to hold leases on the OCS. Information is used to track ownership of leases as to record title, operating rights, and right-of-way (ROW) or right of use and easement (RUE), as well as to approve requests to designate an operator to act on the lessee's behalf. Information is necessary to approve assignment, relinquishment, or cancellation requests. Information is used to document that a lease, ROW, or RUE has been surrendered by the record title holder and to ensure that all legal obligations are met and facilities are properly decommissioned.

• Determine if an application for a ROW or RUE serves the purpose specified in the grant.

• Review and approve SAPs, COPs, and GAPs prior to allowing activities to commence on a lease to ensure that the activities will protect human, marine, and coastal environments of the OCS; to review plans for taking safety equipment out of service to ensure alternate measures are used that will properly provide for the safety of the facilities. The MMS inspectors monitor the records concerning facility inspections and tests to ensure safety of operations and protection of the environment and to schedule their workload to permit witnessing and inspecting operations. The information provides lessees greater flexibility to comply with regulatory requirements through approval of alternative equipment or procedures and departures to regulations if they demonstrate equal or better compliance with the appropriate performance standards.

• Ensure that, if granted, proposed routes of an ROW or RUE do not conflict with any State requirements or unduly interfere with other OCS activities.

• Determine if all facilities, project easements, cables, pipelines, and obstructions, when they are no longer needed, are properly removed or decommissioned, and that the seafloor is cleared of all obstructions created by operations on the lease, project easement, RUE or ROW.

• Improve safety and environmental protection on the OCS through collection and analysis of accident reports to ascertain the cause of the accidents and to determine ways to prevent recurrences.

In addition to the above, forms will be submitted to MMS. The MMS needs the information on the forms for proper and efficient administration of OCS renewable energy leases and grants and to document the financial responsibility of lessees and grantees. Forms MMS-0002, MMS-0003, MMS-0004, and MMS-0006 are needed by renewable energy entities on the OCS to designate an operator and to assign or relinquish a lease or grant. Form MMS-0005 is needed to procure and submit a bond for the purpose of meeting financial assurance requirements as set forth in the regulations. The MMS will maintain the forms that are submitted as official lease and grant records pertaining to operating responsibilities, ownership, and financial responsibility.

Respondents submit the following forms to MMS under 30 CFR part 285, subpart D. The forms and their purposes are:

OCS Renewable Energy Assignment of Grant, Form MMS-0002

The MMS uses this form as the official record as to the assignment of record title interest in a renewable energy grant (Right-of-Way or Right-of-Use and Easement). The MMS uses the information to identify the assigned grant interest and any new grant resulting from the assignment. The information on Form MMS-0002 will be filed and maintained in the applicable MMS regional office.

OCS Renewable Energy Assignment of Interest in Lease, Form MMS-0003

The MMS uses this form as the official record as to the assignment of record title interest in a renewable energy lease. The MMS uses the information to identify the assigned lease interest and any new lease resulting from the assignment. The information on Form MMS-0003 will be filed and maintained in the applicable MMS regional office.

OCS Renewable Energy Lease or Grant Relinquishment Application, Form MMS-0004

The MMS uses this form as the official record as to the relinquishment of a renewable energy lease or grant. Although relinquishment may be required by MMS under 30 CFR 285.658(c), in most cases relinquishments will be filed voluntarily. Form MMS-0004 is required for any relinquishment and will be filed and maintained in the applicable MMS regional office.

OCS Renewable Energy Lessee's, Grantee's, and Operator's Bond, Form MMS-0005

The MMS uses this form as the official instrument for filing and maintaining a surety bond for financial assurance relating to a lease or grant in compliance with the requirements of 30 CFR 285, subpart E. Form MMS-0005 is required for all bonds and other forms of financial assurance and will be filed and maintained in the applicable MMS regional office.

OCS Renewable Energy Lease or Grant Designation of Operator, Form MMS-0006

The MMS uses the information in this form as the official record as to designation of the individual, corporation, or association having control or management of activities on a renewable energy lease or grant. Form MMS-0006 is required to designate an operator or to notify MMS of a change in the designated operator.

Frequency: Varies depending upon the requirement, but is generally on occasion or annual.

Description of Respondents: Primary respondents comprise Federal OCS companies that submit unsolicited proposals or responses to Federal Register notices; or are lessees, designated operators, and ROW or RUE grant holders. Other potential respondents are companies or state and local governments that submit information or comments relative to alternative energy-related uses of the OCS; certified verification agents (CVAs); and surety or third-party guarantors.

Estimated Reporting and Recordkeeping Hour Burden: The estimated annual hour burden for this information collection is a total of 31,124 hours. The following chart details the individual components and estimated hour burdens. In calculating the burdens, we assumed that respondents perform certain requirements in the normal course of their activities. We consider these to be usual and customary and took that into account in estimating the burden.

Section(s) in 30 CFR 285 | Reporting and recordkeeping requirement | Hour burden | Non-hour cost burdens: Average number of annual responses | Non-hour cost burdens: Annual burden hours
Subpart A—General Provisions
102; 105; 110 | These sections contain general references to submitting comments, requests, applications, plans, notices, reports, and/or supplemental information for MMS approval—burdens covered under specific requirements. |  |  | 0
102(e) | State and local governments enter into task force or joint planning or coordination agreement with MMS | 1 | 6 agreements | 6
103; 904 | Request general departures not specifically covered elsewhere in part 285 | 2 | 6 requests | 12
105(c) | Make oral requests or notifications and submit written follow up within 3 business days not specifically covered elsewhere in part 285 | 1 | 8 requests | 8
106; 107; 213(e); 230(f); 302(a); 408(b)(7); 409(c); 1005(c); 1007(c); 1013(b)(7) | Submit evidence of qualifications to hold a lease or grant, required information and supporting information | 2 | 20 evidence submissions | 40
106(b)(1) | Request exception from exclusion or disqualification from participating in transactions covered by Federal non-procurement debarment and suspension system | 1 | 1 exception | 1
106(b)(2), (3); 225; 527(c); 705(c)(2); 1016 | Request reconsideration and/or hearing | Requirement not considered IC under 5 CFR 1320.3(h)(9). |  | 0
108; 530(b) | Notify MMS within 3 business days after learning of any action filed alleging respondent is insolvent or bankrupt | 1 | 1 notice | 1
109 | Notify MMS in writing of merger, name change, or change of business form no later than 120 days after earliest of either the effective date or filing date | Requirement not considered IC under 5 CFR 1320.3(h)(1). |  | 0
111 | Within 30 days of receiving bill, submit processing fee payments for MMS document or study preparation to process applications and requests | .5 | 4 fee submissions | 2
|  | 4 MMS payments x $4,000 = $16,000
111(b)(2), (3) | Submit comments on proposed processing fee or request approval to perform or directly pay contractor for all or part of any document, study, or other activity, to reduce MMS processing costs | 2 | 4 processing fee comments or reduction requests | 8
111(b)(3) | Perform, conduct, develop, etc., all or part of any document, study, or other activity; and provide results to MMS to reduce MMS processing fee | 19,000 | 1 submission | 19,000
111(b)(3) | Pay contractor for all or part of any document, study, or other activity, and provide results to MMS to reduce MMS processing costs | 3 contractor payments x $950,000 = $2,850,000
111(b)(7); 118(a); 436(c) | Appeal MMS estimated processing costs, decisions, or orders pursuant to 30 CFR 290 | Exempt under 5 CFR 1320.4(a)(2), (c) |  | 0
113(b) | Respond to the Freedom of Information Act release schedule | 4 | 1 agreement | 4
115(c) | Request approval to use later edition of a document incorporated by reference or alternative compliance | 1 | 1 request | 1
116 | The Director may occasionally request information to administer and carry out the offshore alternative energy program via Federal Register Notices | 4 | 25 | 100
118(c); 225(b) | Within 15 days of bid rejection, request reconsideration of bid decision or rejection | Requirement not considered IC under 5 CFR 1320.3(h)(9). |  | 0
| 78 responses | 19,183 hours
Subtotal | $2,866,000 non-hour costs
Subpart B—Issuance of OCS Alternative Energy Leases
200; 224; 231; 235; 236; 238 | These sections contain references to information submissions, approvals, requests, applications, plans, payments, etc., the burdens for which are covered elsewhere in part 285 |  |  | 0
210; 211(a), (b); 213 thru 216 | Submit comments in response to Federal Register notices on Request for Interest in OCS Leasing, Call for Information and Nominations (Call), Area Identification, and the Proposed Sale Notice | 4 | 16 comments | 64
211(d); 216; 220 thru 223; 231(c)(2) | Submit bid, payments, and required information in response to Federal Register Final Sale Notice | 5 | 12 bids | 60
224 | Within 10 business days, execute 3 copies of lease form and return to MMS with required payments, including evidence that agent is authorized to act for bidder; if applicable, submit information to support delay in execution | 1 | 5 lease executions | 5
230; 231(a) | Submit unsolicited request and acquisition fee for a commercial or limited lease | 5 | 5 unsolicited requests | 25
231(b) | Submit comments in response to Federal Register notice re interest of unsolicited request for a lease | 4 | 4 unsolicited requests | 16
231(g) | Within 10 business days of receiving lease documents, execute lease; file financial assurance and supporting documentation | 2 | 4 leases | 8
231(g) | Within 45 days of receiving lease copies, submit rent and rent information | Burdens covered by information collections approved for 30 CFR Subchapter A. |  | 0
235(b); 236(b) | Request additional time to extend preliminary or site assessment term of commercial or limited lease, including revised schedule for SAP, COP, or GAP submission | 1 | 2 requests | 2
237(b) | Request lease be dated and effective 1st day of month in which signed | 1 | 1 request | 1
Subtotal | 49 responses | 181 hours
Subpart C—ROW Grants and RUE Grants for Alternative Energy Activities
306; 309; 315; 316 | These sections contain references to information submissions, approvals, requests, applications, plans, payments, etc., the burdens for which are covered elsewhere in part 285. |  |  | 0
302(a); 305; 306 | Submit 1 paper copy and 1 electronic version of a request for a new or modified ROW or RUE and required information, including qualifications to hold a grant | 5 | 1 ROW/RUE request | 5
307; 308(a)(1) | Submit comments on competitive interest in response to Federal Register notice of proposed ROW or RUE grant area or comments on notice of grant auction | 4 | 2 comments | 8
308(a)(2), (b); 315; 316 | Submit bid and payments in response to Federal Register notice of auction for a ROW or RUE grant | 5 | 1 bid | 5
309 | Submit decision to accept or reject terms and conditions of noncompetitive ROW or RUE grant | 2 | 1 grant decision | 2
Subtotal | 5 responses | 20 hours
Subpart D—Lease and Grant Administration
400; 401; 402; 405; 409; 416, 433 | These sections contain references to information submissions, approvals, requests, applications, plans, payments, etc., the burdens for which are covered elsewhere in part 285. |  |  | 0
401(b) | Take measures directed by MMS in cessation order and submit reports in order to resume activities | 100 | 1 cessation measures report | 100
405(d) | Submit written notice of change of address | Requirement not considered IC under 5 CFR 1320.3(h)(1). |  | 0
405(e); Form MMS-0006 | If designated operator (DO) changes, notify MMS and identify new DO for MMS approval | 1 | 1 new DO notice | 1
408 thru 411; Forms MMS-0002 and MMS-0003 | Within 90 days after last party executes a transfer agreement, submit 1 paper copy and 1 electronic version of a lease or grant assignment application, including originals of each instrument creating or transferring ownership of record title, eligibility and other qualifications; and evidence that agent is authorized to execute assignment | 1 (30 minutes per form × 2 forms = 1 hour) | 2 assignment requests/instruments submissions | 2
415(a)(1); 416; 420(a), (b); 428(b) | Submit request for suspension and required information no later than 90 days prior to lease or grant expiration | 10 | 2 suspension requests | 20
417(b) | Conduct, and if required pay for, site-specific study to evaluate cause of harm or damage; and submit 1 paper copy and 1 electronic version of study and results | 100 | 1 study/submission | 100
|  | 1 study × $950,000 = $950,000
425 thru 428; 652(a) | Request lease or grant renewal no later than 180 days before termination date of your limited lease or grant, or no later than 2 years before termination date of operations term of commercial lease | 6 | 2 renewal requests | 12
435; 658(c)(2); Form MMS-0004 | Submit 1 paper copy and 1 electronic version of application to relinquish lease or grant | 1 | 2 relinquishments | 2
436; 437 | Provide information for reconsideration of MMS decision to contract or cancel lease or grant area | Requirement not considered IC under 5 CFR 1320.3(h)(9). |  | 0
| 11 responses | 237 hours
Subtotal | $950,000
Subpart E—Payments and Financial Assurance Requirements
An * indicates the primary cites for providing bonds or other financial assurance, and the burdens include any previous or subsequent references throughout part 285 to furnish, replace, or provide additional bonds, securities, or financial assurance. This subpart contains references to other information submissions, approvals, requests, applications, plans, etc., the burdens for which are covered elsewhere in part 285 | 0
500 thru 509; 1011 | Submit payor information, payments and payment information, and maintain auditable records according to subchapter A regulations or guidance | Burdens covered by information collections approved for 30 CFR Subchapter A. |  | 0
506(c)(4) | Submit documentation of the gross annual generation of electricity produced by the generating facility on the lease—use same form as authorized by the EIA. (Burden covered under DOE/EIA OMB Control Number 1905-0129 to gather info and fill out form. MMS's burden is for submitting a copy) | 10 min | 6 forms | 1
510 | Submit application and required information for waiver or reduction of rental or other payment | 1 | 1 waiver or rental reduction | 1
* 515; 516(a)(1), (b); 525(a) thru (f) | Execute and provide $100,000 minimum lease-specific bond or other approved security; or increase bond level if required | 1 | 6 base-level lease bonds or other security | 6
* 516(a)(2), (3), (b), (c); 517; 525(a) thru (f) | Execute and provide commercial lease supplemental bonds in amounts determined by MMS | 1 | 5 SAP and COP bonds | 5
516(a)(4); 521(c) | Execute and provide decommissioning bond or other financial assurance; schedule for providing the appropriate amount | 1 | 3 decommissioning bonds | 3
517(c)(1) | Submit comments on proposed adjustment to bond amounts | 1 | 3 adjustment comments | 3
517(c)(2) | Request bond reduction and submit evidence to justify | 5 | 2 reduction requests | 10
* 520; 521; 525(a) thru (f); Form MMS-0005 | Execute and provide $300,000 minimum limited lease or grant-specific bond or increase financial assurance if required | 1 | 1 base-level ROW/RUE bond | 1
525(g) | Surety notice to lessee or ROW/RUE grant holder and MMS within 5 business days after initiating insolvency or bankruptcy proceeding, or Treasury decertifies surety | 1 | 1 surety notice | 1
* 526 | In lieu of surety bond, pledge other types of securities, including authority for MMS to sell and use proceeds | 2 | 1 other security pledge | 2
526(c) | Provide annual certified statements describing the nature and market value, including brokerage firm statements/reports | 1 | 1 statement | 1
* 527; 531 | Demonstrate financial worth/ability to carry out present and future financial obligations, annual updates, and related or subsequent actions/records/reports, etc | 10 | 1 | 10
528 | Provide third-party indemnity; financial information/statements; additional bond info; executed guarantor agreement and supporting information/documentation | 10 | 1 | 10
528(c)(6); 532(b) | Guarantor/Surety requests MMS terminate period of liability and notifies lessee or ROW/RUE grant holder, etc | 1 | 1 request | 1
* 529 | In lieu of surety bond, request authorization to establish decommissioning account, including written authorizations and approvals associated with account | 2 | 1 decommissioning account | 2
530 | Notify MMS promptly of lapse in bond or other security/action filed alleging lessee, surety or guarantor et al. is insolvent or bankrupt | 1 | 1 notice | 1
533(a)(2)(ii), (iii) | Provide agreement from surety issuing new bond to assume all or portion of outstanding liabilities | 3 | 1 surety agreement | 3
536(b) | Within 10 business days following MMS notice, lessee, grant holder, or surety agrees to and demonstrates to MMS that lease will be brought into compliance | 16 | 1 agreement demonstration | 16
Subtotal | 37 responses | 77 hours
Subpart F—Plans and Information Requirements
Two ** indicate the primary cites for Site Assessment Plans (SAPs), Construction and Operations Plans (COPs), and General Activities Plans (GAPs); and the burdens include any previous or subsequent references throughout part 285 to submission and approval. This subpart contains references to other information submissions, approvals, requests, applications, plans, etc., the burdens for which are covered elsewhere in part 285 | 0
** 600(a); 601(a), (b); 605 thru 613 | Within 6 months after issuance of a competitive lease or grant, or within 60 days after determination of no competitive interest, submit 1 paper copy and 1 electronic version of a SAP, including information to assist MMS to comply with NEPA such as hazard info, air quality, and all required information, certifications, etc | 240 | 6 SAPs | 1,440
** 600(b); 601(c), (d)(1); 606(b); 618; 620 thru 629; 633 | If requesting an operations term for commercial lease, at least 6 months before the end of site assessment term, submit 1 paper copy and 1 electronic version of a COP, or FERC license application, including information to assist MMS to comply with NEPA such as hazard info, air quality, and all required information, surveys and/or their results, reports, certifications, project easements, supporting data and information, etc | 1,000 | 3 COPs | 3,000
** 600(c); 601(a), (b); 640 thru 648 | Within 6 months after issuance of a competitive lease or grant, or within 60 days after determination of no competitive interest, submit 1 paper copy and 1 electronic version of a GAP, including information to assist MMS to comply with NEPA such as hazard info, air quality, and all required information, surveys and reports, certifications, project easements, etc | 240 | 1 GAP | 240
** 601(d)(2); 622; 628(f); 632; 634; 658(c)(3) | Submit revised or modified COPs, including project easements, and all required additional information | 50 | 1 revised or modified COP | 50
602 ¹ | Until MMS releases financial assurance, respondents must maintain, and provide to MMS if requested, all data and information related to compliance with required terms and conditions of SAP, COP, or GAP | 2 | 9 records maintenance/submissions | 18
** 613(d), (e) | Submit revised or modified SAPs and required additional information | 50 | 1 revised or modified SAP | 50
612(b); 647(b) | Noncompetitive leases must submit copy of SAP or GAP consistency certification and supporting documentation | 1 | 4 leases | 4
615(a) | Notify MMS in writing within 30 days of completion of construction and installation activities under SAP | 1 | 5 completion construction notices | 5
615(b) | Submit annual report summarizing findings from site assessment activities | 30 | 8 annual reports | 240
615(c) | Submit annual, or at other time periods as MMS determines, SAP compliance certification, effectiveness statement, recommendations, reports, supporting documentation, etc | 40 | 8 compliance certifications | 320
617(a) | Notify MMS in writing before conducting any activities not approved, or provided for, in SAP; provide additional information if requested | 10 | 1 notice before activity | 10
627(c) | Include oil spill response plan as required by part 254 | Burden covered 30 CFR part 254, 1010-0091. |  | 0
631 | Request deviation from approved COP schedule | 2 | 1 deviation request | 2
633(b) | Submit annual, or at other time periods as MMS determines, COP compliance certification, effectiveness statement, recommendations, reports, supporting documentation, etc | 80 | 9 compliance certifications | 720
634(a) | Notify MMS in writing before conducting any activities not approved or provided for in COP, and provide additional information if requested | 10 | 1 notice before activity | 10
635 | Notify MMS any time commercial operations cease without an approved suspension | 1 | 1 termination notice | 1
636(a) | Notify MMS in writing no later than 30 days after commencing activities associated with placement of facilities on lease area | 1 | 3 commence notices | 3
636(b) | Notify MMS in writing no later than 30 days after completion of construction and installation activities | 1 | 3 completion notices | 3
636(c) | Notify MMS in writing at least 7 days before commencing commercial operations | 1 | 3 initial ops notices | 3
** 642(b); 648(e); 655; 658(c)(3) | Submit revised or modified GAPs and required additional information | 50 | 1 revised or modified GAP | 50
651 | Before beginning construction of OCS facility described in GAP, complete survey activities identified in GAP and submit initial findings. This only includes the time involved in submitting the findings; it does not include the survey time as these surveys would be conducted as good business practice | 30 | 5 surveys/reports | 150
653(a) | Notify MMS in writing within 30 days of completing installation activities under the GAP | 1 | 5 completion notices | 5
653(b) | Submit annual report summarizing findings from activities conducted under approved GAP | 30 | 8 annual reports | 240
653(c) | Submit annual, or at other time periods as MMS determines, GAP compliance certification, recommendations, reports, etc | 40 | 8 compliance certifications | 320
655(a) | Notify MMS in writing before conducting any activities not approved or provided for in GAP, and provide additional information if requested | 10 | 1 notice before activity | 10
656 | Notify MMS if at any time approved GAP activities cease without an approved suspension | 1 | 1 termination notice | 1
658(c)(1) | If after construction, cable or pipeline deviate from approved COP or GAP, notify affected lease operators and ROW/RUE grant holders of deviation and provide MMS evidence of such notices | 3 | 1 deviation notice/MMS evidence | 3
659 | Determine appropriate air quality modeling protocol, conduct air quality modeling, and submit 3 copies of air quality modeling report and 3 sets of digital files as supporting information to plans | 70 | 10 air quality modeling reports/information | 700
Subtotal | 108 responses | 7,598
Subpart G—Facility Design, Fabrication, and Installation
Three *** indicate the primary cites for the reports discussed in this subpart, and the burdens include any previous or subsequent references throughout part 285 to submitting and obtaining approval. This subpart contains references to other information submissions, approvals, requests, applications, plans, etc., the burdens for which are covered elsewhere in part 285 | 0
*** 700(a)(1), (b), (c); 701 | Submit Facility Design Report, including 1 paper copy and 1 electronic copy of the cover letter, certification statement, and all required information (1-3 paper or electronic copies as specified) | 200 | 3 Facility Design Reports | 600
***700(a)(2); (b), (c); 702 | Submit 1 paper copy and 1 electronic copy of a Fabrication and Installation Report, certification statement and all required information | 160 | 3 Fabrication & Installation Reports | 480
705(a)(3); 707; 712 | Certified Verification Agent (CVA) conducts independent assessment of the facility design and submits reports to lessee or grant holder and MMS—interim reports if required, and 1 electronic copy and 1 paper copy of the final report | 100 | 3 CVA design interim reports | 300
|  | 100 | 3 CVA final reports | 300
705(a)(3); 708; 709; 710; 712 | CVA conducts independent assessments on the fabrication and installation activities, informs lessee or grant holder if procedures are changed or design specifications are modified; and submits reports to lessee or grant holder and MMS—interim reports if required, and 1 electronic copy and 1 paper copy of the final report | 100 | 3 CVA interim reports | 300
|  | 100 | 3 CVA final reports | 300
703 ***; 705(a)(3); 711; 712 | CVA/project engineer monitors major project modifications and repairs and submits reports to lessee or grant holder and MMS—interim reports if required, and 1 electronic copy and 1 paper copy of the final report | 20 | 1 interim report | 20
|  | 15 | 1 final report | 15
705(c) | Request waiver of CVA requirement in writing; lessee must demonstrate standard design and best practices | 40 | 1 waiver | 40
706 | Submit for approval with SAP, COP, or GAP, initial nominations for a CVA or new replacement CVA nomination, and required information | 16 | 13 new CVA nominations | 208
708(b)(2) | Lessee or grant holder notify MMS if modifications identified by CVA/project engineer are accepted | 1 | 1 notice | 1
709(a)(14); 710(a)(2), (e) ¹ | Make fabrication quality control, installation towing, and other records available to CVA/project engineer for review (retention required by § 285.714) | 1 | 3 records retention | 3
713 | Notify MMS within 10 business days after commencing commercial operations | 1 | 2 commence notices | 2
714; ¹ | Until MMS releases financial assurance, compile, retain, and make available to MMS and/or CVA the as-built drawings, design assumptions/analyses, summary of fabrication and installation examination records, inspection results, and records of repairs not covered in inspection report. Record original and relevant material test results of all primary structural materials; retain records during all stages of construction | 100 | 3 lessees | 300
Subtotal | 43 responses | 2,869
Subpart H—Environmental and Safety Management, Inspections, and Facility Assessments for Activities Conducted Under SAPs, COPs, and GAPs
801(c), (d) | Notify MMS if endangered or threatened species, or their designated critical habitat, may be in the vicinity of the lease or grant or may be affected by lease or grant activities | 1 | 2 notices | 2
801(e), (f) | Submit information to ensure proposed activities will be conducted in compliance with the Endangered Species Act (ESA) and Marine Mammal Protection Act (MMPA); including, agreements and mitigating measures designed to avoid or minimize adverse effects and incidental take of endangered species or critical habitat | 6 | 2 ESA/MMPA submissions | 12
802; 902(e) | Notify MMS of archaeological resource within 72 hours of discovery | 3 | 1 archaeological notice | 3
802(b); 802(c) | If requested, conduct further archaeological investigations and submit report | 10 | 1 archaeological report | 10
802(d) | If applicable, submit payment for MMS costs in carrying out National Historic Preservation Act responsibilities | .5 | 1 payment | .5
803(b) | If required, conduct additional surveys to define boundaries and avoidance distances and submit report | 15 | 2 survey/report | 30
810 ***; 632(b) | Submit safety management system description with the SAP, COP, or GAP | 35 | 10 safety management systems | 350
813(b)(1) | Report within 24 hours when any required equipment taken out of service for more than 12 hours; provide written confirmation if reported orally | .5 | 3 equipment reports | 1.5
|  | 1 | 1 written confirmation | 1
813(b)(3) | Notify MMS when equipment returned to service; provide written confirmation if oral notice | .5 | 3 return to service notices | 1.5
815(c) | When required, analyze cable, P/L, or facility damage or failures to determine cause and as soon as available submit comprehensive written report | 1.5 | 1 analysis report | 1.5
816 | Submit plan of corrective action report on observed detrimental effects on cable, P/L, or facility within 30 days of discovery; take remedial action and submit report of remedial action within 30 days after completion | 2 | 1 corrective action plan and report | 2
822(a)(2)(iii), (b) | Until MMS releases financial assurance, maintain records of design, construction, operation, maintenance, repairs, and investigation on or related to lease or ROW/RUE area; make available to MMS for inspection | 1 | 4 records retention | 4
823 | Request reimbursement within 90 days for food, quarters, and transportation provided to MMS reps during inspection | 2 | 1 reimbursement request | 2
824(a) ¹ | Develop annual self inspection plan covering all facilities; retain with records, and make available to MMS upon request | 24 | 4 self assessment plans | 96
824(b) | Conduct annual self inspection and submit report by November 1 | 36 | 4 annual reports | 144
825 | Based on API RP 2A-WSD, perform assessment of structures, initiate mitigation actions for structures that do not pass assessment process, retain information, and make available to MMS upon request | 60 | 4 assessments and mitigation actions | 240
830(a), (c); 831 thru 833 | Immediately report incidents to MMS via oral communications, submit written follow-up report within 15 business days after the incident, and submit any required additional information | Oral .5 | 6 incidents | 3
|  | Written 4 | 1 incident | 4
830(d) | Report oil spills as required by part 254 | Burden covered by 1010-0091, 30 CFR part 254 |  | 0
Subtotal | 52 responses | 908
Subpart I—Decommissioning
Four **** indicate the primary cites for the reports discussed in this subpart, and the burdens include any previous or subsequent references throughout part 285 to submitting and obtaining approval. This subpart contains references to other information submissions, approvals, requests, applications, plans, etc., the burdens for which are covered elsewhere in part 285
**** 902(b), (c), (d), (f); 905, 906; 907; 908(c); 909 | Submit for approval 1 paper copy and 1 electronic copy of the SAP, COP, or GAP decommissioning application and site clearance plan at least 2 years before decommissioning activities begin, 90 days after completion of activities, or 90 days after cancellation, relinquishment, or other termination of lease or grant. Include documentation of coordination efforts w/States, local or tribal governments, requests that certain facilities remain in place for other activities, be converted to an artificial reef, or be toppled in place. Submit additional information requested or modify and resubmit application | 20 | 1 decommissioning application | 20
902(d); 908; | Notify MMS at least 60 days before commencing decommissioning activities | 1 | 1 decommissioning notice | 1
910 | Within 60 days after removing a facility, verify to MMS that site is cleared | 1 | 1 removal verification | 1
912 | Within 60 days after removing a facility, cable, or pipeline, submit a written report | 8 | 1 removal report | 8
MMS does not anticipate decommissioning activities for at least 5 years so the requirements have been given a minimal burden
Subtotal | 4 responses | 30
Subpart J—RUEs for Energy and Marine-Related Activities Using Existing OCS Facilities
1004, 1005, 1006 | Contact owner of existing facility and/or lessee of the area to reach preliminary agreement to use facility and obtain concurring signatures; submit request to MMS for an alternative use RUE, including all required information/modifications | 1 | 1 request for RUE to use existing facility | 1
1007(a), (b), (c) | Submit indication of competitive interest in response to Federal Register notice | 4 | 1 response | 4
1007(c) | Submit description of proposed activities and required information in response to Federal Register notice of competitive offering | 5 | 1 submission | 5
1007(f) | Lessee or owner of facility submits decision to accept or reject proposals deemed acceptable by MMS | 1 | 1 decision | 1
1010(c) | Request renewal of Alternate Use RUE | 6 | 1 renewal request | 6
1012; 1016(b) | Provide financial assurance as MMS determines in approving RUE for an existing facility, including additional security if required | 1 | 1 bond or other security | 1
1013 | Submit request for assignment of an alternative use RUE for an existing facility, including all required information | 1 | 1 RUE assignment request | 1
1015 | Request relinquishment of RUE for an existing facility | 1 | 1 RUE relinquish | 1
Subtotal | 8 responses | 20
30 CFR Parts 250 & 290 Proposed Revisions
250.1730 | Request departure from requirement to remove a platform or other facility | No change to burden covered by 1010-0142, 30 CFR 250, subpart Q |  | 0
250.1731(c) | Request deferral of facility removal subject to RUE issued under this subpart | 1 | 1 deferral request | 1
250.290.2 | Request reconsideration of an MMS decision concerning a lease bid | Requirement not considered IC under 5 CFR 1320.3(h)(9) |  | 0
Subtotal | 1 response | 1
| 396 Responses | 31,124
Total Burden | $3,816,000 Non-Hour Cost Burdens

Estimated Reporting and Recordkeeping Non-Hour Cost Burden: We have identified three non-hour cost burdens to industry. We estimate the total of those at $3,816,000 for the following:

Section 285.111-$16,000: This section requires respondents to pay a processing fee for MMS document or study preparation when necessary for MMS processing of applications and requests. The processing fee is $4,000 and we anticipate approximately 4 fees.

Section 285.111(b)(3)-$2,850,000: This section allows respondents to pay a contractor instead of MMS for all or part of any document, study, or other activity, and provide the results to MMS to reduce MMS processing costs. We estimate the non-hour cost burden of this payment could range from $100,000 to $2,000,000; therefore, we are estimating the cost at $950,000. We anticipate no more than 3 payments.

Section 285.417(b)-$950,000: This section requires respondents to pay for a site-specific study to evaluate the cause of harm or damage to natural resources, and submit a report to MMS. We estimate the non-hour cost burden of this study could range from $100,000 to $2,000,000, depending on the nature of the study; therefore, we are estimating the cost at $950,000. We anticipate no more than one study.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on September 23, 2009, we published a Federal Register notice (74 FR 48588) announcing that we would submit this ICR to OMB for approval. The notice provided the required 60-day comment period. In addition, § 285.114 provides the OMB control number for the information collection requirements imposed by the 30 CFR 285 regulations. The regulation also informs the public that they may comment at any time on the collections of information and provides the address to which they should send comments. We have received no comments in response to these efforts.

If you wish to comment in response to this notice, you may send your comments to the offices listed under the ADDRESSES section of this notice. The OMB has up to 60 days to approve or disapprove the information collection but may respond after 30 days. Therefore, to ensure maximum consideration, OMB should receive public comments by February 11, 2010.

Public Availability of Comments: Before including your address, phone number, e-mail address, or other personal identifying information in your comment, you should be aware that your entire comment-including your personal identifying information-may be made publicly available at any time. While you can ask us in your comment to withhold your personal identifying information from public review, we cannot guarantee that we will be able to do so.

MMS Information Collection Clearance Officer: Arlene Bajusz, (202) 208-7744.

Dated: November 25, 2009.
E.P. Danenberger,
Chief, Office of Offshore Regulatory Programs.

[FR Doc. 2010-356 Filed 1-11-10; 8:45 am]

BILLING CODE 4310-MR-P